ENVIRONMENTAL PROTECTION AGENCY

[EPA-HQ-OECA-2013-0311; FRL-9982-17-OEI]

Information Collection Request Submitted to OMB for Review and Approval; Comment Request; Emission Guidelines for Sewage Sludge Incinerators (Renewal)

AGENCY: Environmental Protection Agency (EPA).

ACTION: Notice.

SUMMARY: The Environmental Protection Agency (EPA) has submitted an information collection request (ICR), Emission Guidelines for Sewage Sludge Incinerators (EPA ICR No. 2403.04, OMB Control No. 2060-0661), to the Office of Management and Budget (OMB) for review and approval in accordance with the Paperwork Reduction Act. This is a proposed extension of the ICR, which is currently approved through August 31, 2018. Public comments were previously requested, via the Federal Register on June 29, 2017, during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before September 20, 2018.

ADDRESSES: Submit your comments, referencing Docket ID Number EPA-HQ-OECA-2013-0311, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed either online at www.regulations.gov, or in person at the EPA Docket Center, WJC West, Room 3334, 1301 Constitution Ave. NW, Washington, DC. The telephone number for the Docket Center is 202-566-1744. For additional information about EPA's public docket, visit: http://www.epa.gov/dockets.

Abstract: The Emission Guidelines for Sewage Sludge Incinerators (SSI) for Sewage Sludge Incinerators (40 CFR part 60, subpart MMMM) apply to the administrators of air quality programs in a state or U.S. protectorate with one or more SSI units that commenced construction either on or before the date of proposal. States may choose to incorporate the model rule text directly in their state plan. If a State does not develop, adopt, and submit an approvable State plan, the EPA must develop a Federal plan to implement the emission guidelines. These regulations do not directly apply to SSI unit owners and operators. However, SSI unit owners and operators must comply with the state plan to implement the emission guidelines contained in this Subpart. These standards only affect existing units constructed on or before October 14, 2010; therefore, no new units will become subject to these same standards. This information is being collected to assure compliance with 40 CFR part 60, subpart MMMM.

In general, all emission guidelines require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to emission guidelines.

Form Numbers: None.

Respondents/affected entities: Sewage sludge incinerators constructed on or before October 14, 2010.

Respondent's obligation to respond: Mandatory (40 CFR part 60, subpart MMMM).

Estimated number of respondents: 86 (total).

Frequency of response: Initially, semiannually and annually.

Total estimated burden: 32,800 hours (per year). Burden is defined at 5 CFR 1320.3(b).

Total estimated cost: $4,790,000 (per year), which includes $1,350,000 in annualized capital/startup and/or operation & maintenance costs.

Changes in the Estimates: There is an adjustment increase in the labor hours and costs as compared to the previously-approved ICR. The increase is not due to any program changes. The increase in labor burden and costs occurred for two reasons: (1) This ICR assumes all respondents will have to familiarize with the regulatory requirements each year; and (2) this ICR fixes an error in the previous ICR, which did not include recordkeeping burden for operating parameters. However, there is also an adjustment decrease in the total capital and O&M costs and number of responses as compared to the previous ICR. The decrease occurred for two reasons: (1) The total number of SSI units has decreased since the previous ICR; and (2) this ICR assumes that all facilities will meet the requirements for testing every three years rather than annual testing.

Courtney Kerwin,
Director, Regulatory Support Division.

[FR Doc. 2018-17871 Filed 8-20-18; 8:45 am]

BILLING CODE 6560-50-P